Title 3—

The President

Proclamation 8486 of March 25, 2010

Education and Sharing Day, U.S.A., 2010

By the President of the United States of America

A Proclamation

To secure a bright future for America, we must instill in our children a love of learning as well as a spirit of compassion. These are two of our Nation’s most cherished and enduring values. Today, let us rededicate ourselves to preparing our next generation of leaders for the world they will inherit.

For America to thrive in the 21st century, we need a workforce with the knowledge and skills to compete in the global economy. More than ever before, the success of every American will depend on their level of academic achievement. A world class education can unlock every child’s full potential, and that remains our best roadmap to prosperity.

However, our leadership in the world relies upon citizens who are not only well-educated, but also driven by their humanity and civic virtue. In the wake of this year’s devastating earthquakes in Haiti and Chile, Americans stepped forward to help, carrying on the unmatched tradition of generosity that defines our national character. By passing on this spirit of compassion to our children, we help ensure America remains a beacon of hope to people around the world.

The importance of education and kindness was promoted in the work of Rabbi Menachem Mendel Schneerson, the Lubavitcher Rebbe, inspiring countless individuals to uphold these values in their own lives and communities. Each year, Education and Sharing Day, U.S.A., reminds us of his legacy and the principles to which he dedicated himself. As we strengthen our Nation’s ladders of opportunity, let us teach our children to lift up generations yet to come.

NOW, THEREFORE, I, BARACK OBAMA, President of the United States of America, by virtue of the authority vested in me by the Constitution and the laws of the United States, do hereby proclaim March 26, 2010, as “Education and Sharing Day, U.S.A.” I call upon all Americans to observe this week with appropriate ceremonies and activities.

IN WITNESS WHEREOF, I have hereunto set my hand this twenty-fifth day of March, in the year of our Lord two thousand ten, and of the Independence of the United States of America the two hundred and thirty-fourth.

[FR Doc. 2010-7281

Filed 3-29-10; 11:15 am]

Billing code 3195-W0-P